ENVIRONMENTAL PROTECTION AGENCY

[Docket ID Number EPA-HQ-OAQPS-2004-0073; FRL-9461-9]

Agency Information Collection Activities; Proposed Collection; Comment Request; Requirements for Control Technology Determinations for Constructed and Reconstructed Major Sources of Hazardous Air Pollutants

AGENCY: Environmental Protection Agency (EPA).

ACTION: Notice.

SUMMARY: In compliance with the Paperwork Reduction Act (44 U.S.C. 3501 et seq.), this document announces that EPA is planning to submit a request to renew an existing approved Information Collection Request (ICR) to the Office of Management and Budget (OMB). This is a request to renew an existing approved collection. This ICR is scheduled to expire on January 31, 2012. Before submitting the ICR to OMB for review and approval, EPA is soliciting comments on specific aspects of the proposed information collection as described below.

DATES: Comments must be submitted on or before November 8, 2011.

ADDRESSES: Submit your comments, identified by Docket ID No. EPA-HQ-OAR-2004-0073, by one of the following methods:

• http://www.regulations.gov: Follow the on-line instructions for submitting comments.

• E-mail: a-and-r-docket@epa.gov, Attention Docket ID No. EPA-HQ-OAR-2004-0073.

• Fax: (202) 566-1741, Attention Docket ID No. EPA-HQ-OAR-2004-0073.

• Mail: U.S. Environmental Protection Agency, EPA West (Air Docket), 1200 Pennsylvania Ave., NW., Room 3334, Mail Code: 6102T, Washington, DC 20460, Attention E-Docket ID No. EPA-HQ-OAR-2004-0073.

• Hand Delivery: Air and Radiation Docket and Information Center, U.S. Environmental Protection Agency, 1301 Constitution Ave., NW., Room 3334, Mail Code: 6102T, Washington, DC 20460, Attention Docket ID No. EPA-HQ-OAR-2004-0073. Such deliveries are only accepted during the Docket's normal hours of operation, and special arrangements should be made for deliveries of boxed information.

Instructions: Direct your comments to Docket ID No. EPA-HQ-OAR-2004-0073. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. Send or deliver information identified as CBI only to the following address: Mr. Roberto Morales, OAQPS Document Control Officer, U.S. EPA (C404-02), Attention Docket ID No. EPA-HQ-OAR-2004-0073, Research Triangle Park, NC 27711. Clearly mark the part or all of the information that you claim to be CBI. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Debra Dalcher, U.S. EPA, Office of Air Quality Planning and Standards, Sector Policy and Programs Division, Program Design Group, D205-02, Research Triangle Park, North Carolina 27711, telephone number (919) 541-2443, e-mail dalcher.debra@epa.gov.

SUPPLEMENTARY INFORMATION:

How can I access the docket and/or submit comments?

EPA has established a public docket for this ICR under docket ID number EPA-HQ-OAR-2004-0073. The docket is available for online viewing at http://www.regulations.gov, or in person viewing at the EPA Docket Center, Public Reading Room, EPA West, Room 3334, 1301 Constitution Avenue, NW., Washington, DC. The Public Reading Room is open from 8 a.m. to 4:30 p.m., Monday through Friday, excluding legal holidays. The telephone number for the Public Reading Room is (202) 566-1744, and the telephone number for the Air Docket is (202) 566-1742.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the Paperwork Reduction Act (PRA), EPA is soliciting comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including the use of appropriate automated electronic, mechanical, or other technological collection techniques or other forms of information technology, e.g., permitting electronic submission of responses. In particular, EPA is requesting comments from very small businesses (those that employ less than 25) or examples of specific additional efforts that EPA could make to reduce the paperwork burden for very small businesses affected by this collection.

What should I consider when I prepare my comments for EPA?

You may find the following suggestions helpful for preparing comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

To what information collection activity or ICR does this apply?

Affected entities: Owners or operators who construct or reconstruct a major source of HAP emissions must comply with any applicable MACT standard. Where no MACT standard exists, a case-by-case determination of MACT (case-by-case MACT) under CAA section 112(g) must be made. The owner or operator is responsible for obtaining such a case-by-case MACT determination.

State, local, and Tribal agencies with operating permit programs that have been approved by EPA will review information submitted by sources under the CAA section 112(g) provisions. These permitting agencies must determine the level of control that will be necessary to meet case-by-case MACT requirements for new sources. Finally, EPA will review a percentage of the determinations in order to provide oversight of the various State, local, and Tribal permitting authorities.

Title: Information Collection Request for 40 CFR Part 63 Regulations Governing Constructed and Reconstructed Major Sources.

ICR numbers: EPA ICR No. 1658.05, OMB Control No. 2060-0373.

ICR status: EPA ICR No. 1658.04 expires on January 31, 2010. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulation is consolidated in 40 CFR part 9.

Abstract: Section 112(g)(2)(B) of the Clean Air Act as amended in 1990 (CAA) requires that maximum achievable control technology (MACT) standards be met by constructed or reconstructed major sources of hazardous air pollutants (HAP). Where no applicable emission limit has been set, the MACT determination shall be made on a case-by-case basis. The source owner or operator must submit certain information to allow the permitting authority to perform a case-by-case MACT determination (40 CFR 63.43(e)) Permitting agencies, either State, local, Tribal or Federal, review information submitted and make case-by-case MACT determinations. Specific activities and requirements are listed and described in the Supporting Statement for the ICR.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. The reporting and recordkeeping burden was estimated as follows:

Estimated Number of Industry Respondents: 6.

Frequency of Response: Once.

Estimated total average number of responses for each respondent: One title V permit application or amendment, or a notification of MACT approval.

Estimated Total Annual Burden Hours: 529.

Estimated Total Annual Cost: $37,871.

Are there changes in the estimates from the last approval?

Primarily, the decrease in burden is due to finalizing the MACT standards for new and existing industrial, commercial, and institutional boilers and process heaters at major source facilities. Therefore our revised estimate of burden is smaller than that estimated in the last ICR.

What is the next step in the process for this ICR?

EPA will consider any comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the person listed under FOR FURTHER INFORMATION CONTACT.

Dated: September 1, 2011.
Steve Fruh,
Acting Director, Sector Policies and Programs Division.

[FR Doc. 2011-23138 Filed 9-8-11; 8:45 am]

BILLING CODE 6560-50-P